DEPARTMENT OF VETERANS AFFAIRS

[OMB Control No. 2900-NEW]

Proposed Information Collection (Per Diem for Nursing Home Care of Veterans in State Homes (38 CFR part 51) and Per Diem for Adult Day Care of Veterans in State Homes (38 CFR Part 52)) Activity; Comment Request; Withdrawal

AGENCY: Veterans Health Administration, Department of Veterans Affairs.

ACTION: Notice; withdrawal of request for comments.

SUMMARY: In compliance with the Paperwork Reduction Act of 1995 (44 U.S.C. 3501-3521), the Department of Veterans Affairs (VA) published a collection of information notice in the Federal Register on July 31, 2013, at 78 FR 147, announcing an opportunity for public comment on the proposed collection of certain information by the agency. The notice solicited comments on forms associated with 38 CFR parts 51 and 52, relating to per diem payments for certain services provided for residents of state-sponsored Veterans homes. With respect to the collection of information in that notice, we are withdrawing our request for comments because of the need to reassess the burden on the public associated with the respective forms.

This document withdraws the Notice at 78 FR 147 (July 31, 2013).

FOR FURTHER INFORMATION CONTACT: Crystal Rennie, Records Management Service (005R1B), Department of Veterans Affairs, 810 Vermont Avenue NW., Washington, DC 20420, at (202) 632-7492.

Dated: March 6, 2014.
By direction of the Secretary.
Crystal Rennie,
VA Clearance Officer, U.S. Department of Veterans Affairs.

[FR Doc. 2014-05297 Filed 3-11-14; 8:45 am]

BILLING CODE 8320-01-P